DEPARTMENT OF JUSTICE

Drug Enforcement Administration

Ray V. Surapaneni, D.O.; Revocation of Registration

On April 29, 2004, the Deputy Assistant Administrator, Office of Diversion Control, Drug Enforcement Administration (DEA), issued an Order to Show Cause to Ray V. Surapaneni, D.O. (Dr. Surapaneni) who was notified of an opportunity to show cause as to why DEA should not revoke his DEA Certificate of Registration, BS3724932, pursuant to 21 U.S.C. 824(a)(3). Specifically, the Order to Show Cause alleged that Dr. Surapaneni's authority to handle controlled substances in the State of Missouri had been revoked.

The Order to Show Cause notified Dr. Surapaneni that should no request for a hearing be filed within 30 days, his hearing right would be deemed waived. Alternatively, he could waive a hearing and submit a written statement regarding his position on the matters of fact and law for the Deputy Administrator's consideration, along with the material within the investigative case file.

The Order to Show Cause was initially sent by certified mail to Dr. Surapaneni at an address which was not current. On September 2, 2004, the Order to Show Cause was resent and Dr. Surapaneni received it on September 6, 2004. In his September 10, 2004, letter to the Hearing Clerk, DEA Office of Administrative Law Judges, Dr. Surapaneni affirmatively waived a hearing and asked the Deputy Administrator to not revoke his registration and to consider the contents of the letter in deciding the matter.

The Deputy Administrator of DEA, after considering material from the investigative file and the written statement of Dr. Surapaneni, now enters her final order without a hearing pursuant to 21 CFR 1301.43(b) and (e) 1301.46.

The Deputy Administrator finds Dr. Surapaneni is currently registered with DEA as a practitioner authorized to handle controlled substances in Schedules II through V under DEA Certificate of Registration BS3724932, with a registered location of 1515 Union Avenue, Moberly, Missouri.

According to information in the investigative file, in June 2003, Dr. Surapaneni entered into a Memorandum of Agreement (MOA) with the DEA Saint Louis Field Division as a condition of renewing his DEA registration. Among the MOA's terms was a provision that his DEA registration would terminate automatically if he were to lose authority to handle controlled substances in Missouri, his State of registration.

On December 9, 2003, the Missouri Bureau of Narcotics and Dangerous Drugs (BNDD) notified Dr. Surapaneni that his Missouri Controlled Substances Registration No. 307766793, had been terminated and he did not “currently have the authority to conduct any activities with controlled substances in the state of Missouri.” The investigative file indicates his state controlled substances registration was terminated because it had been issued for a specific location in Paris, Missouri and, pursuant to a March 11, 2003, Settlement Agreement Between Dr. Surapaneni and BNDD, his registration would terminate immediately if he relocated his professional practice. BNDD subsequently discovered Dr. Surapaneni had never been employed by or practiced at the Paris, Missouri location. Efforts by DEA diversion investigators to obtain his certificate by surrender proved unsuccessful and show cause proceedings were then initiated.

In his written statement to the Deputy Administrator, Dr. Surapaneni indicates he was unable to join the Paris, Missouri, practice because he lacked start-up funds, attributing this financial plight to a previous office manager having embezzled $150,000 from him. Dr. Surapaneni also says he is seeking medical employment and intends to reapply for his Missouri registration once he has found a position.

However, Dr. Surapaneni does not dispute that his State controlled substances registration was terminated by BNDD or claim any current authority to handle controlled substances in that State. Therefore, the Deputy Administrator finds Dr. Surapaneni is currently not authorized to handle controlled substances in Missouri.

DEA does not have statutory authority under the Controlled Substances Act to issue or maintain a registration if the applicant or registrant is without State authority to handle controlled substances in the State in which he conducts business. See 21 U.S.C. 802(21), 823(f) and 824(a)(3). This prerequisite has been consistently upheld. See Richard J. Clement, M.D., 68 FR 12, 103 (2003); Dominick A. Ricci, M.D., 58 FR 51,104 (1993); Bobby Watts, M.D., 53 FR 11,919 (1988).

Here, it is clear Dr. Surapaneni's State controlled substance registration was terminated and there is no information that action was ever stayed or that his registration has been reinstated. As a result, Dr. Surapaneni is not licensed to handle controlled substances in Missouri, where he is registered with DEA. Therefore, he is not entitled to maintain that registration.

Accordingly, the Deputy Administrator of the Drug Enforcement Administration, pursuant to the authority vested in her by 21 U.S.C. 823 and 824 and 28 C.F.R. 0.100(b) and 0.104, hereby orders that DEA Certificate of Registration, BS3724932, issued to Ray V. Surapaneni, D.O., be, and it hereby is, revoked. The Deputy Administrator further orders that any pending applications for renewal or modification of the aforementioned registration be, and hereby are, denied. This order is effective February 24, 2005.

Dated: December 30, 2004.
Michele M. Leonhart,
Deputy Administrator.

[FR Doc. 05-1326 Filed 1-24-05; 8:45 am]

BILLING CODE 4410-09-M